DEPARTMENT OF ENERGY

Federal Energy Regulatory Commission

[Docket No. ER01-180-001, et al.]

New York Independent System Operator, Inc., et al.; Electric Rate and Corporate Regulation Filings

October 27, 2000.

Take notice that the following filings have been made with the Commission:

1. New York Independent System Operator, Inc.

[Docket Nos. ER01-180-001 and ER01-181-001]

Take notice that on October 24, 2000, the New York Independent System Operator, Inc. (NYISO), tendered for filing a Notice of Correction in the above captioned proceedings. The Notice of Correction explained that due to an administrative error, revised tariff sheets that should have been included in the NYISO's October 20, 2000 filing in Docket No. ER01-180-000 were mistakenly included in the NYISO's October 20, 2000 filing in Docket No. ER01-181-000. Similarly, revised tariff sheets that should have been included in the NYISO's October 20, 2000 filing in Docket No. ER01-181-000 were mistakenly included in the NYISO's October 20, 2000 filing in Docket No. ER01-180-000. Accordingly, the Notice of Correction included corrected versions of the two filings and new notices in both proceedings.

A copy of this filing was served upon all parties in Docket No. ER00-3038-000, Docket Nos. ER00-3591-000 and ER00-3591-001, Docket Nos. ER97-1523-000, OA97-470-000 and ER97-4324-000, not consolidated, and on all other parties who have executed Service Agreements under the NYISO's Open Access Transmission Tariff or Market Administration and Control Area Services Tariff.

Comment date: November 9, 2000, in accordance with Standard Paragraph E at the end of this notice.

2. Allegheny Energy Service Corporation, on behalf of Allegheny Energy Supply Company, LLC (AE Supply)

[Docket No. ER00-3568-001]

Take notice that on October 23, 2000, Allegheny Energy Service Corporation on behalf of Allegheny Energy Supply Company, LLC (AE Supply), tendered for filing Original Sheet Nos. 7 through 35 to AE Supply's Rate Schedule No. 7.

AE Supply has requested a waiver of notice to make the rate schedule change effective on August 1, 2000, or on a date determined by the Commission.

Copies of the filing have been provided to the customer and to the West Virginia Public Service Commission.

Comment date: November 13, 2000, in accordance with Standard Paragraph E at the end of this notice.

3. Georgia-Pacific Corporation

[Docket No. ER00-3604-001]

Take notice that on October 23, 2000, Georgia-Pacific Corporation (G-P), tendered for filing FERC Electric Tariff, Original Volume No. 1, Original Sheet No. 1, in compliance with Order No. 614, Designation of Electric Rate Schedules, 99 FERC ¶61,352.

G-P requests that this tariff be made effective October 18, 2000, in accordance with its Petition filed with the Commission on September 7, 2000.

Comment date: November 13, 2000, in accordance with Standard Paragraph E at the end of this notice.

4. The Dayton Power and Light Company

[Docket No. ER00-3641-001]

Take notice that on October 24, 2000, The Dayton Power and Light Company (DP&L), tendered for filing an amended Wholesale Market Based Rate Tariff and a pro forma Service Agreement to comply with Order 614.

DP&L seeks it originally requested effective date of September 15, 2000 for all of the tariff sheets submitted with this filing.

Comment date: November 14, 2000, in accordance with Standard Paragraph E at the end of this notice.

5. Arizona Public Service Company

[Docket No. ER01-177-000]

Take notice that on October 19, 2000, Arizona Public Service Company (APS) tendered for filing Quarterly Refund payments to eligible wholesale customers under the Company's Fuel Cost Adjustment Clause (FAC).

A copy of this filing has been served upon the affected parties, the California Public Utilities Commission, and the Arizona Corporation Commission.

Customer name | APS-FPC/FERC rate schedule
Electrical District No. 3 | 12
Tohono O'odham Utility Authority ¹ | 52
Arizona Electric Power Cooperative | 57
Wellton-Mohawk Irrigation and Drainage District | 58
Arizona Power Authority | 59
Colorado River Indian Irrigation Project | ² 65
Electrical District No. 1 | 68
Arizona Power Pooling Association | 70
Town of Wickenburg | 74
Southern California Edison Company | 120
Electrical District No. 6 | 126
Electrical District No. 7 | 128
City of Page | 134
Electrical District No. 8 | 140
Aguila Irrigation District | 141
McMullen Valley Water Conservation and Drainage District | 142
Tonopah Irrigation District | 143
Citizens Utilities Company | ² 207
Harquahala Valley Power District | 153
Buckeye Water Conservation and Drainage District | 155
Roosevelt Irrigation District | 158
Maricopa County Municipal Water Conservation District | 168
City of Williams | 192
San Carlos Indian Irrigation Project | 201
Maricopa County Municipal Water Conservation District at Lake Pleasant | 209
¹ Formerly Papago Utility Tribal Authority.
² APS-FPC/FERC Rate Schedule in effect during the refund period.

Comment date: November 9, 2000, in accordance with Standard Paragraph E at the end of this notice.

6. Ameren Services Company

[Docket No. ER01-184-000]

Take notice that on October 23, 2000, Ameren Services Company (Ameren Services) tendered for filing a Service Agreement for Network Integration Transmission Service between Ameren Services and the City of Newton, Illinois. Ameren Services asserts that the purpose of the Agreement is to permit Ameren Services to provide transmission service to the City of Newton, Illinois pursuant to Ameren's Open Access Tariff.

Comment date: November 13, 2000, in accordance with Standard Paragraph E at the end of this notice.

7. Southern Indiana Gas and Electric Company

[Docket No. ER01-185-000]

Take notice that on October 23, 2000, Southern Indiana Gas and Electric Company (SIGECO) tendered for filing the following agreement concerning the provision of electric service as an umbrella service agreement under its market-based Wholesale Power Sales Tariff:

Wholesale Energy Service Agreement dated October 12, 2000, by and between Southern Indiana Gas and Electric Company and El Paso Merchant Energy, L.P.

Comment date: November 13, 2000, in accordance with Standard Paragraph E at the end of this notice.

8. Jersey Central Power & Light Company, Metropolitan Edison Company, Pennsylvania Electric Company

[Docket No. ER01-186-000]

Take notice that on October 20, 2000, Jersey Central Power & Light Company, Metropolitan Edison Company and Pennsylvania Electric Company (individually doing business as GPU Energy) submitted for filing a Notice of Cancellation of the Service Agreement between GPU Service Corporation and Southern Energy Marketing, Inc. (now Southern Company Energy Marketing L.P., FERC Electric Tariff, Original Volume No. 1, Service Agreement No. 48.

GPU Energy requests that cancellation be effective the 20th day of December 2000.

Comment date: November 13, 2000, in accordance with Standard Paragraph E at the end of this notice.

9. Jersey Central Power & Light Company, Metropolitan Edison Company, Pennsylvania Electric Company

[Docket No. ER01-187-000]

Take notice that on October 23, 2000, Jersey Central Power & Light Company, Metropolitan Edison Company and Pennsylvania Electric Company (individually doing business as GPU Energy) submitted for filing a Notice of Cancellation of the Service Agreement between GPU Energy and Constellation Power Source (now Constellation Power Source, Inc.), FERC Electric Tariff, Original Volume No. 1, Service Agreement No. 95.

GPU Energy requests that cancellation be effective the 20th day of December 2000.

Comment date: November 13, 2000, in accordance with Standard Paragraph E at the end of this notice.

10. Jersey Central Power & Light Company, Metropolitan Edison Company, Pennsylvania Electric Company

[Docket No. ER01-188-000]

Take notice that on October 23, 2000, Jersey Central Power & Light Company, Metropolitan Edison Company and Pennsylvania Electric Company (individually doing business as GPU Energy) submitted for filing a Notice of Cancellation of the Service Agreement between GPU Energy and El Paso Energy Marketing Company (now, El Paso Merchant Energy, L.P.), FERC Electric Tariff, Original Volume No. 1, Service Agreement No. 91.

GPU Energy requests that cancellation be effective the 20th day of December 2000.

Comment date: November 13, 2000, in accordance with Standard Paragraph E at the end of this notice.

11. Jersey Central Power & Light Company, Metropolitan Edison Company, Pennsylvania Electric Company

[Docket No. ER01-189-000]

Take notice that on October 23, 2000, Jersey Central Power & Light Company, Metropolitan Edison Company and Pennsylvania Electric Company (individually doing business as GPU Energy) submitted for filing a Notice of Cancellation of the Service Agreement between GPU Service, Inc. and AYP Energy, Inc., FERC Electric Tariff, Original Volume No. 1, Service Agreement No. 58.

GPU Energy requests that cancellation be effective the 20th day of December 2000.

Comment date: November 13, 2000, in accordance with Standard Paragraph E at the end of this notice.

12. Jersey Central Power & Light Company, Metropolitan Edison Company, Pennsylvania Electric Company

[Docket No. ER01-190-000]

Take notice that on October 23, 2000, Jersey Central Power & Light Company, Metropolitan Edison Company and Pennsylvania Electric Company (individually doing business as GPU Energy) submitted for filing a Notice of Cancellation of the Service Agreement between GPU Energy and American Electric Power Service Corporation, FERC Electric Tariff, Original Volume No. 1, Service Agreement No. 92.

GPU Energy requests that cancellation be effective the 20th day of December 2000.

Comment date: November 13, 2000, in accordance with Standard Paragraph E at the end of this notice.

13. Jersey Central Power & Light Company, Metropolitan Edison Company, Pennsylvania Electric Company

[Docket No. ER01-191-000]

Take notice that on October 23, 2000, Jersey Central Power & Light Company, Metropolitan Edison Company and Pennsylvania Electric Company (individually doing business as GPU Energy) submitted for filing a Notice of Cancellation of the Service Agreement between GPU Service Corporation and PECO Energy Company, FERC Electric Tariff, Original Volume No. 1, Service Agreement No. 11.

GPU Energy requests that cancellation be effective the 20th day of December 2000.

Comment date: November 13, 2000, in accordance with Standard Paragraph E at the end of this notice.

14. Jersey Central Power & Light Company, Metropolitan Edison Company, Pennsylvania Electric Company

[Docket No. ER01-192-000]

Take notice that on October 23, 2000, Jersey Central Power & Light Company, Metropolitan Edison Company and Pennsylvania Electric Company (individually doing business as GPU Energy) submitted for filing a Notice of Cancellation of the Service Agreement between GPU Energy and GPU Advanced Resources, FERC Electric Tariff, Original Volume No. 1, Service Agreement No. 86.

GPU Energy requests that cancellation be effective the 20th day of December 2000.

Comment date: November 13, 2000, in accordance with Standard Paragraph E at the end of this notice.

15. Jersey Central Power & Light Company, Metropolitan Edison Company, Pennsylvania Electric Company

[Docket No. ER01-193-000]

Take notice that on October 23, 2000, Jersey Central Power & Light Company, Metropolitan Edison Company and Pennsylvania Electric Company (individually doing business as GPU Energy) submitted for filing a Notice of Cancellation of the Service Agreement between GPU Energy and DTE Co-Energy LLC, FERC Electric Tariff, Original Volume No. 1, Service Agreement No. 89.

GPU Energy requests that cancellation be effective the 20th day of December 2000.

Comment date: November 13, 2000, in accordance with Standard Paragraph E at the end of this notice.

16. Jersey Central Power & Light Company, Metropolitan Edison Company, Pennsylvania Electric Company

[Docket No. ER01-194-000]

Take notice that on October 23, 2000, Jersey Central Power & Light Company, Metropolitan Edison Company and Pennsylvania Electric Company (individually doing business as GPU Energy) submitted for filing a Notice of Cancellation of the Service Agreement between GPU Service Corporation and Long Island Lighting Company (now Long Island Lighting Co. d/b/a LIPA through buyer's agent Keyspan Energy Trading Services LLC), FERC Electric Tariff, Original Volume No. 1, Service Agreement No. 3.

GPU Energy requests that cancellation be effective the 20th day of December 2000.

Comment date: November 13, 2000, in accordance with Standard Paragraph E at the end of this notice.

17. Southern Indiana Gas and Electric Company

[Docket No. ER01-195-000]

Take notice that on October 23, 2000, Southern Indiana Gas and Electric Company (SIGECO) tendered for filing Service Agreements for Firm and Non-Firm Transmission Service under Part II of its Transmission Services Tariff with Alliance Energy Services Partnership and with H.Q. Energy Services (U.S.) Inc.

Copies of the filing were served upon each of the parties to the Service Agreements.

Comment date: November 13, 2000, in accordance with Standard Paragraph E at the end of this notice.

18. Cinergy Services, Inc.

[Docket No. ER01-200-000]

Take notice that on October 23, 2000, Cinergy Services, Inc. (Services), Cincinnati Gas & Electric Company (CG&E) and PSI Energy, Inc. (PSI) (collectively, Cinergy) tendered for filing a notice of termination of the Operating Agreement, dated March 2, 1994, by and among CG&E, PSI and Services. The Operating Agreement is designated as Cinergy Operating Companies Rate Schedule FERC No. 1.

Cinergy has requested that termination take effect on December 31, 2000.

Copies of the filing were served on the affected state commissions and the other persons identified on the service list attached to the filing.

Comment date: November 13, 2000, in accordance with Standard Paragraph E at the end of this notice.

19. Central Power and Light Company

[Docket No. ER01-201-000]

Take notice that on October 23, 2000, Central Power and Light Company (CPL), tendered for filing revised Facility Schedule No. 7 to the Interconnection Agreement between CPL and Medina Electric Cooperative, Inc. (Medina).

CPL requests an effective date for revised Facility Schedule No. 7 of June 15, 2000. Accordingly, CPL requests waiver of the Commission's notice requirements.

CPL states that a copy of the filing was served on Medina and the Public Utility Commission of Texas.

Comment date: November 13, 2000, in accordance with Standard Paragraph E at the end of this notice.

20. Deseret Generation & Transmission Co-operative

[Docket No. ER01-203-000]

Take notice that on October 23, 2000, Deseret Generation & Transmission Co-operative, Inc. (Deseret) tendered for filing two executed firm point-to-point service agreements with Deseret Generation & Transmission Co-operative, Inc.'s Merchant Function (Deseret Merchant) under Deseret's open access transmission tariff.

Deseret requests a waiver of the Commission's notice requirements for an effective date of November 1, 2000. Deseret's open access transmission tariff is currently on file with the Commission in Docket No. OA97-487-000.

Deseret Merchant has been provided a copy of this filing.

Comment date: November 13, 2000, in accordance with Standard Paragraph E at the end of this notice.

21. PJM Interconnection, L.L.C.

[Docket No. ER01-204-000]

Take notice that on October 23, 2000, PJM Interconnection, L.L.C. (PJM), tendered for filing revised pages to the Amended and Restated Operating Agreement of PJM Interconnection, L.L.C., to modify the confidentiality provisions in Section 18.17 of that agreement relating to the procedures for the release of confidential information.

PJM requests a waiver of the Commission's 60-day notice requirement and to permit an effective date of October 24, 2000.

Copies of this filing were served upon all PJM Members and the state electric regulatory commissions in the PJM Control Area.

Comment date: November 13, 2000, in accordance with Standard Paragraph E at the end of this notice.

22. Xcel Energy Services Inc.

[Docket No. ER01-205-000]

Take notice that on October 23, 2000, Xcel Energy Services Inc. (Xcel Energy Services), tendered for filing (i) a market-based tariff to enable it to make market-based rate sales on behalf of Northern States Power Company, Northern States Power Company (Wisconsin), Public Service Company of Colorado (PSCo), and Southwestern Public Service Company (SPS) (collectively the Xcel Operating Companies) in any combination including singly, (ii) an amended version of the PSCo Rate Schedule for Market-Based Power Sales; (iii) an amended version of the SPS Rate Schedule for Market-Based Power Sales; and (iv) an updated market-power analysis for the Xcel Operating Companies and e prime.

Xcel Energy Services has requested that the various tariffs be made effective on October 24, 2000.

Comment date: November 13, 2000, in accordance with Standard Paragraph E at the end of this notice.

23. Minnesota Power, Inc.

[Docket No. ER01-206-000]

Take notice that on October 23, 2000, Minnesota Power, Inc., tendered for filing a signed Service Agreement with Alliant Energy Corporate Services, Inc., under its market-based Wholesale Coordination Sales Tariff (WCS-2) to satisfy its filing requirements under this tariff.

Comment date: November 13, 2000, in accordance with Standard Paragraph E at the end of this notice.

24. Newark Bay Cogeneration Partnership, L.P.

[Docket No. ER01-207-000]

Take notice that on October 23, 2000, Newark Bay Cogeneration Partnership, L.P., (Newark Bay), an Exempt Wholesale Generator that owns and operates an electric generation plant near Newark, New Jersey, tendered for filing a Power Marketing Agreement with El Paso Merchant Energy, L.P., in the above-captioned docket.

Newark Bay requests that the Agreement be permitted to become effective September 27, 2000.

Comment date: November 13, 2000, in accordance with Standard Paragraph E at the end of this notice.

25. Delmarva Power & Light Company

[Docket No. ER01-209-000]

Take notice that on October 23, 2000, Delmarva Power & Light Company (Delmarva), tendered for filing revised rate schedules between Delmarva and each of the Delaware Cities of Lewes, Milford, Newark, and New Castle and the Delaware Towns of Middletown, Clayton, and Smyrna (collectively, the Municipalities). Delmarva also tendered for filing a revised rate schedule between Delmarva and the Delaware Municipal Electric Corporation (DEMEC).

Delmarva requests that the Commission waive its notice of filing requirements to allow all of the revised rate schedules to become effective retroactively as of January 1, 2000 because the revisions provide for reductions in the charges to the customers.

Copies of the filing were served upon the Municipalities, DEMEC, and the state commission of Delaware.

Comment date: November 13, 2000, in accordance with Standard Paragraph E at the end of this notice.

26. Tucson Electric Power Company

[Docket No. ER01-208-000]

Take notice that on October 24, 2000, Tucson Electric Power Company (Tucson) submitted for filing a revision to its Open Access Transmission Tariff (OATT) in order to include the Protocols Manual of the Arizona Independent Scheduling Administrator Association.

Tucson requests an effective date of date of November 1, 2000.

Comment date: November 9, 2000, in accordance with Standard Paragraph E at the end of this notice.

27. PJM Interconnection, L.L.C.

[Docket No. ER01-210-000]

Take notice that on October 24, 2000, PJM Interconnection, L.L.C. (PJM), tendered for filing revised pages to the Amended and Restated Operating Agreement of PJM Interconnection, L.L.C., and the PJM Open Access Transmission Tariff to permit the reallocation of Fixed Transmission Rights to network service customers on an annual basis.

PJM requests an effective date of December 24, 2000 for the amendments.

Copies of this filing were served upon all PJM members and the state electric regulatory commissions in the PJM control area.

Comment date: November 14, 2000, in accordance with Standard Paragraph E at the end of this notice.

28. Duke Energy Trenton, LLC

[Docket No. ER01-211-000]

Take notice that on October 24, 2000, Duke Energy Trenton, LLC (Duke Trenton), tendered for filing an Electric Energy and Ancillary Service Sales Agreement by and between Duke Energy Trenton, LLC and Duke Energy Trading and Marketing, LLC.

Duke Trenton requests an effective date for the Service Agreement of September 28, 2000.

Comment date: November 14, 2000, in accordance with Standard Paragraph E at the end of this notice.

29. Consumers Energy Company

[Docket No. ER01-212-000]

Take notice that on October 24, 2000, Consumers Energy Company (Consumers) tendered for filing executed Firm and Non-Firm Point to Point Transmission Service Agreements with Quest Energy (Customer) pursuant to the Joint Open Access Transmission Service Tariff filed on December 31, 1996 by Consumers and The Detroit Edison Company (Detroit Edison).

The agreements have effective dates of October 20, 2000.

Copies of the filed agreement were served upon the Michigan Public Service Commission, Detroit Edison, and the Customer.

Comment date: November 14, 2000, in accordance with Standard Paragraph E at the end of this notice.

30. Duke Energy Morro Bay, LLC

[Docket No. ER01-213-000]

Take notice that on October 24, 2000, Duke Energy Morro Bay, LLC (Duke Morro Bay), tendered for filing an Electric Energy and Ancillary Service Sales Agreement by and between Duke Energy Morro Bay, LLC and Duke Energy Trading and Marketing, LLC.

Duke Morro Bay requests an effective date for the Service Agreement of September 28, 2000.

Comment date: November 14, 2000, in accordance with Standard Paragraph E at the end of this notice.

31. Duke Energy Moss Landing, LLC

[Docket No. ER01-214-000]

Take notice that on October 24, 2000, Duke Energy Moss Landing, LLC (Duke Moss Landing), tendered for filing an Electric Energy and Ancillary Service Sales Agreement by and between Duke Energy Moss Landing, LLC and Duke Energy Trading and Marketing, LLC.

Duke Moss Landing requests an effective date for the Service Agreement of September 28, 2000.

Comment date: November 14, 2000, in accordance with Standard Paragraph E at the end of this notice.

32. Duke Energy South Bay, LLC

[Docket No. ER01-215-000]

Take notice that on October 24, 2000, Duke Energy South Bay, LLC (Duke South Bay), tendered for filing an Electric Energy and Ancillary Service Sales Agreement by and between Duke Energy South Bay, LLC and Duke Energy Trading and Marketing, LLC.

Duke South Bay requests an effective date for the Service Agreement of September 28, 2000.

Comment date: November 14, 2000, in accordance with Standard Paragraph E at the end of this notice.

33. Duke Energy Casco Bay, LLC

[Docket No. ER01-216-000]

Take notice that on October 24, 2000, Duke Energy Casco Bay, LLC (Duke Casco Bay), tendered for filing an Electric Energy and Ancillary Service Sales Agreement by and between Duke Energy Casco Bay, LLC and Duke Energy Trading and Marketing, LLC.

Duke Casco Bay requests an effective date for the Service Agreement of September 28, 2000.

Comment date: November 14, 2000, in accordance with Standard Paragraph E at the end of this notice.

34. Maine Electric Power Company

[Docket No. ER01-219-000]

Take notice that on October 24, 2000, Maine Electric Power Company (MEPCO), tendered for filing a service agreement for Umbrella Non-Firm Point-to-Point Transmission Service entered into with NRG Power Marketing Inc. Service will be provided pursuant to MEPCO's Open Access Transmission Tariff, designated rate schedule MEPCO-FERC Electric Tariff, Original Volume No. 1, as supplemented.

Comment date: November 14, 2000, in accordance with Standard Paragraph E at the end of this notice.

35. GEN~SYS Energy

[Docket No. EC01-9-000]

Take notice that on October 20, 2000, GEN~SYS Energy tendered for filing an application under Section 203 of the Federal Power Act for approval for a change of control of GEN~SYS Energy. GEN~SYS Energy has served copies of this filing on the United States Department of Agriculture Rural Utilities Service and the Mid-Continent Area Power Pool.

Comment date: November 14, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28464 Filed 11-6-00; 8:45 am]

BILLING CODE 6717-01-P